DEPARTMENT OF HEALTH AND HUMAN SERVICES

National Institutes of Health

National Center for Advancing Translational Sciences; Amended Notice of Meeting

Notice is hereby given of a change in the meeting of the National Center for Advancing Translational Sciences Special Emphasis Panel, Preclinical Proof of Concept Studies for Rare Diseases (R21) January 24, 2024, 9:00 a.m. to January 25, 2024, 5:00 p.m., National Institutes of Health, National Center for Advancing Translational Sciences, 6701 Democracy Boulevard, Bethesda, MD, 20892 which was published in the Federal Register on November 14, 2023, FR DOC 2023-25070, 88 FR 78052.

The meeting is being rescheduled due to panel member availability. The meeting will be held on February 1, 2024, 9:00 a.m. to February 2, 2024, 5:00 p.m. This meeting will be held virtually. The meeting is closed to the public.

Dated: November 17, 2023.
Melanie J. Pantoja,
Program Analyst, Office of Federal Advisory Committee Policy.

[FR Doc. 2023-25885 Filed 11-22-23; 8:45 am]

BILLING CODE 4140-01-P